ELECTION ASSISTANCE COMMISSION

Request for Comment: Accessible Digital Form Filler Tool for the National Mail Voter Registration Form

AGENCY: Election Assistance Commission.

ACTION: Notice, request for comment.

SUMMARY: The U.S. Election Assistance Commission (EAC), in consultation with the Technology Transformation Services Office of Solutions (TTS) of the U.S. General Services Administration (GSA) is publishing the Accessible Digital Form Filler Tool for the National Mail Voter Registration Form for public comment. The intent of this tool is to improve the screen reader experience and allow for a customizable display, improving the accessibility and usability of the National Mail Voter Registration Form.

DATES: Comments must be received by 5 p.m. Eastern on Monday, July 22, 2024.

ADDRESSES: To view the Accessible Digital Form Filler Tool for the National Mail Voter Registration Form, see: https://vote.gov/national-voter-registration-form-review/. Email comments on the proposed Accessible Digital Form Filler Tool for the National Mail Voter Registration Form should be submitted electronically via clearinghouse@eac.gov. Written comments on the proposed Accessible Digital Form Filler Tool for the National Mail Voter Registration Form can also be sent to the U.S. Election Assistance Commission, 633 3rd Street NW, Suite 200, Washington, DC 20001.

FOR FURTHER INFORMATION CONTACT: Kristen Muthig, Telephone: (202) 897-9285, Email: kmuthig@eac.gov.

SUPPLEMENTARY INFORMATION: GSA TTS developed a mobile-friendly, accessible tool to help people fill out the National Mail Voter Registration Form online, so that the voter can print and mail the form to their state election office. This digital tool streamlines over 20 pages of state-specific instructions and provides only the instructions and fields required for people based on their state. The digital tool improves the screen reader experience and allows for a customizable display, improving the accessibility and usability of the National Mail Voter Registration Form.

The EAC will use the feedback and information received through this public comment process, along with findings of the consultation with the Chief Election Official of each state, to inform GSA of improvements to the Accessible Digital Form Filler Tool for the National Mail Voter Registration Form. Response to this request for public comment is voluntary. Please note that comments submitted in response to this Notice are public record. Before including any detailed personal information, you should be aware that your submitted comments, including your personal information, may be made available for public review.

Camden Kelliher,
Acting General Counsel, U.S. Election Assistance Commission.

[FR Doc. 2024-13811 Filed 6-24-24; 8:45 am]

BILLING CODE 4810-71-P